DEPARTMENT OF AGRICULTURE

Food Safety and Inspection Service

[Docket No. FSIS-2010-0007]

Codex Alimentarius Commission: Meeting of the Codex Committee on Contaminants in Food

AGENCY: Office of Food Safety, USDA.

ACTION: Notice of public meeting and request for comments.

SUMMARY: The Office of Food Safety, U.S. Department of Agriculture (USDA), and the Food and Drug Administration (FDA), U.S. Department of Health and Human Services (HHS), are sponsoring a public meeting on March 29, 2010. The objective of the public meeting is to provide information and receive public comments on agenda items and draft United States (U.S.) positions that will be discussed at the 4th Session of the Codex Committee on Contaminants in Food (CCCF) of the Codex Alimentarius Commission (Codex), which will be held in Izmir, Turkey, April 26-30, 2010. The Office of Food Safety and FDA recognize the importance of providing interested parties the opportunity to obtain background information on the 4th Session of the CCCF and to address items on the agenda.

DATES: The public meeting is scheduled for Monday, March 29, 2010, from 10 a.m.-12 p.m.

ADDRESSES: The public meeting will be held at Harvey W. Wiley Federal Building, Room 1A-001, FDA, Center for Food Safety and Applied Nutrition (CFSAN), 5100 Paint Branch Parkway, College Park, MD 20740. Documents related to the 4th Session of the CCCF will be accessible via the World Wide Web at the following address: http://www.codexalimentarius.net/current.asp.

The U.S. Delegate to the CCCF, Dr. Nega Beru, invites interested U.S. parties to submit their comments electronically to the following e-mail address: Henry.Kim@fda.hhs.gov.

Registration: Register electronically to the same e-mail address above. Early registration is encouraged because it will expedite entry into the building and its parking area. If you require parking, please include the vehicle make and tag number, if known, when you register. Because the meeting will be held in a Federal building, you should also bring photo identification and plan for adequate time to pass through the security screening system.

If you would like to participate in the public meeting for the 4th session of the CCCF by telephone conference, please use the following call in number and passcode:

Call In Number: 1-866-859-5767.

Passcode: 2225276.

For Further Information about the 4th Session of the CCCF Contact: Dr. Henry Kim, Office of Food Safety, CFSAN, FDA, 5100 Paint Branch Parkway (HFS-317), College Park, MD 20740, Phone: 301-436-2023, Fax: 301-436-2651, E-mail: Henry.Kim@fda.hhs.gov.

For Further Information about the Public Meeting Contact: Dr. Henry Kim, Office of Food Safety, CFSAN, FDA, 5100 Paint Branch Parkway (HFS-317), College Park, MD 20740, Phone: 301-436-2023, Fax: 301-436-2651, E-mail: Henry.Kim@fda.hhs.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCCF establishes and endorses permitted maximum levels (MLs) for contaminants and naturally occurring toxicants in food and feed; prepares a priority list of contaminants and naturally occurring toxicants for risk assessment by the Joint FAO/WHO Expert Committee on Food Additives (JECFA); considers methods of analysis and sampling for the determination of contaminants and naturally occurring toxicants in food and feed; considers and elaborates standards or codes of practice for related subjects; and considers other matters assigned to it by the Commission in relation to contaminants and naturally occurring toxicants in food and feed.

The Committee is chaired by the Netherlands.

Issues To Be Discussed at the Public Meeting

The following items on the agenda for the 4th Session of the CCCF will be discussed during the public meeting:

• Matters Referred to the CCCF by Codex and other Codex Committees and Task Forces

• Matters of Interest Arising from FAO and WHO (including JECFA)

• Matters of Interest Arising from other International Organizations—International Atomic Energy Agency (IAEA)

• Proposed Draft Code of Practice for the Reduction of Ethyl Carbamate in Stone Fruit Distillates

• Proposed Draft Maximum Levels for Melamine in Food and Feed

• Proposed Draft Maximum Levels for Total Aflatoxins in Brazil Nuts

• Proposed Draft Revision of the Code of Practice for the Prevention and Reduction of Aflatoxin in Tree Nuts (Additional Measures for Brazil Nuts)

• Proposed Draft Maximum Levels for Fumonisins in Maize and Maize Products and Associated Sampling Plans

• Discussion Paper on Mycotoxins in Sorghum

• Priority List of Contaminants and Naturally Occurring Toxicants Proposed for Evaluation by JECFA

Each issue listed will be fully described in documents distributed, or to be distributed, by the Secretariat prior to the meeting. Members of the public may access copies of these documents (see ADDRESSES).

Public Meeting

At the March 29, 2010, public meeting, draft U.S. positions on the agenda items will be described and discussed, and attendees will have the opportunity to pose questions and offer comments. Written comments may be offered at the meeting or sent to Dr. Henry Kim for the 4th Session of the CCCF (see ADDRESSES). Written comments should state that they relate to activities of the 4th Session of the CCCF.

Additional Public Notification

Public awareness of all segments of rulemaking and policy development is important. Consequently, in an effort to ensure that minorities, women, and persons with disabilities are aware of this notice, FSIS will announce it online through the FSIS Web page located at http://www.fsis.usda.gov/Regulations_&_Policies/2010_Notices_Index/index.asp. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done in Washington, DC on March 1, 2010.
Karen Stuck,
U.S. Manager for Codex Alimentarius.

[FR Doc. 2010-4694 Filed 3-4-10; 8:45 am]

BILLING CODE 3410-DM-P